DEPARTMENT OF TRANSPORTATION

Federal Aviation Administration

14 CFR Part 39

[Docket No. FAA-2007-28973; Directorate Identifier 2007-NM-118-AD; Amendment 39-15344; AD 2008-02-14]

RIN 2120-AA64

Airworthiness Directives; Boeing Model 747-400, -400D, and -400F Series Airplanes; Boeing Model 757 Airplanes; and Boeing Model 767 Airplanes

AGENCY: Federal Aviation Administration (FAA), Department of Transportation (DOT).

ACTION: Final rule.

SUMMARY: The FAA is adopting a new airworthiness directive (AD) for certain Boeing airplanes listed above. This AD requires an inspection of certain lighted pushbutton switches in the flight compartment for configuration ‘D' master modules and part numbers and corrective action if necessary. This AD also provides an option to inspect panel assemblies for part numbers. This AD results from a report indicating that the integrated drive generator failed in flight due to a possible switch malfunction. We are issuing this AD to ensure that certain lighted pushbutton switches in the flight compartment do not malfunction and cause the flightcrew to be unable to control critical airplane systems and continue safe airplane operation.

DATES: This AD becomes effective February 28, 2008.

The Director of the Federal Register approved the incorporation by reference of certain publications listed in the AD as of February 28, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue SE., Washington, DC 20590.

FOR FURTHER INFORMATION CONTACT: Georgios Roussos, Aerospace Engineer, Systems and Equipment Branch, ANM-130S, FAA, Seattle Aircraft Certification Office, 1601 Lind Avenue SW., Renton, Washington 98057-3356; telephone (425) 917-6482; fax (425) 917-6590.

SUPPLEMENTARY INFORMATION:

Discussion

The FAA issued a notice of proposed rulemaking (NPRM) to amend 14 CFR part 39 to include an AD that would apply to certain Boeing Model 747-400, -400D, and -400F series airplanes; Boeing Model 757 airplanes; and Boeing Model 767 airplanes. That NPRM was published in the Federal Register on August 16, 2007 (72 FR 45986). That NPRM proposed to require an inspection of certain lighted pushbutton switches in the flight compartment for configuration ‘D' master modules and part numbers and corrective action if necessary. That NPRM also provided an option to inspect panel assemblies for part numbers.

Comments

We provided the public the opportunity to participate in the development of this AD. We have considered the comments received.

Support for the NPRM

Boeing, the airplane manufacturer, concurs with the content of the NPRM.

Request To Remove Reference to Revision 1 of the Service Bulletins

Japan Airlines requests that we remove the reference in the NPRM to Boeing Alert Service Bulletins 747-33A2280 and 767-33A0087, both Revision 1, both dated September 25, 2003 (we referred to those service bulletins as appropriate sources of service information for doing the actions specified in the NPRM). The commenter notes that it has incorporated Boeing Alert Service Bulletins 747-33A2280 and 767-33A0087, both dated December 19, 2001, for its Model 747-400 and Model 767-200/-300 fleets. The commenter notes that it strictly controls the configuration ‘D' master module. However, the commenter states it did not carry out some top assembly module part number changes according to the instructions of Revision 1 of the service bulletins because in some cases the original top assembly module part number was not indicated anywhere, or was indicated unclearly.

The commenter believes that it is impossible to follow the part number change indicated in Revision 1 of the service bulletins and notes that because it tracks the base module, it can ignore the top assembly module part number.

The commenter also states that Boeing agrees that Japan Airlines does not need to perform Revision 1 of the service bulletins because the changes to the bulletin caused by Revision 1 do not affect Japan Airlines' fleet/units.

We disagree with removing the reference to Boeing Alert Service Bulletins 747-33A2280 and 767-33A0087, both Revision 1. We acknowledge that each operator may wish to use different parts and have its own tracking methods. However, we cannot accommodate every operator's differences in each AD. We have determined that the best way to handle such circumstances is for operators to request an alternative method of compliance (AMOC) in accordance with paragraph (p) of this AD, rather than increasing the complexity of the AD by addressing each operator's unique situation. We have not revised this AD in this regard.

Conclusion

We have carefully reviewed the available data, including the comments received, and determined that air safety and the public interest require adopting the AD as proposed.

Costs of Compliance

There are about 2,511 airplanes of the affected designs in the worldwide fleet. This AD affects about 934 airplanes of U.S. registry.

The inspection of switches takes about 8 work hours per airplane, at an average labor rate of $80 per work hour. Based on these figures, the estimated cost of the inspection for U.S. operators is $597,760, or $640 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2008-02-14 Boeing: Amendment 39-15344. Docket No. FAA-2007-28973; Directorate Identifier 2007-NM-118-AD.

Effective Date

(a) This AD becomes effective February 28, 2008.

Affected ADs

(b) None.

Applicability

(c) This AD applies to Boeing airplanes listed in Table 1 of this AD, certificated in any category.

Table 1.—Applicability
Model— | As identified in Boeing Alert Service Bulletin—
747-400, -400D, and -400F series airplanes | 747-33A2280, Revision 1, dated September 25, 2003.
757-200, -200CB, and -200PF series airplanes | 757-33A0044, Revision 1, dated September 25, 2003.
757-300 series airplanes | 757-33A0045, Revision 1, dated September 25, 2003.
767-200, -300, and -300F series airplanes | 767-33A0087, Revision 1, dated September 25, 2003.
767-400ER series airplanes | 767-33A0088, including Appendix A, dated December 19, 2001.

Unsafe Condition

(d) This AD results from a report indicating that the integrated drive generator (IDG) failed in flight due to possible switch malfunction. We are issuing this AD to ensure that certain lighted pushbutton switches in the flight compartment do not malfunction and cause the flightcrew to be unable to control critical airplane systems and continue safe airplane operation.

Compliance

(e) You are responsible for having the actions required by this AD performed within the compliance times specified, unless the actions have already been done.

Service Bulletin References

(f) The term “the service bulletin,” as used in this AD, means the Accomplishment Instructions of the service bulletins listed in Table 1 of this AD, as applicable.

Note 1: The Boeing service bulletins refer to Korry Service Bulletin 433-33-05, dated July 23, 2001, as an additional source of service information for finding configuration ‘D' switches, for replacing the switch master module with a configuration ‘D' master module, and for doing various operational tests after the replacement.

Component Service Bulletin References

(g) The Boeing service bulletins listed in Table 1 of this AD refer to the Boeing component service bulletins specified in Table 2 of this AD as additional sources of service information for replacing the switch or switch master module at critical locations, for doing operational tests after the replacement, and for identifying new panel part numbers.

Table 2.—Boeing Component Service Bulletins: Secondary Sources of Service Information
Boeing Component Service Bulletin— | Date— | Model— | Critical location—
233N3203-21-01, Revision 1 | September 25, 2003 | 757 airplanes | Equipment Cooling Panel.
233N3204-30-02, Revision 1 | September 25, 2003 | 757 airplanes | Anti-ice Panel.
233N3206-28-02, Revision 1 | September 25, 2003 | 757-200, -200CB, and -200PF series airplanes | Fuel Control Panel.
233N3209-24-03, Revision 1 | September 25, 2003 | 757 airplanes and 767-200, -300, and -300F series airplanes | Electrical Systems Panel.
233N3211-24-02, Revision 1 | September 25, 2003 | 757 airplanes and 767 airplanes | Battery/Standby Power Panel.
233N3215-36-01, Revision 1 | September 25, 2003 | 757 airplanes | Bleed Air Panel Assembly.
233N3216-22-01, Revision 1 | September 25, 2003 | 757 airplanes and 767 airplanes | Yaw Damper Panel Assembly.
233N3219-33-01, including Appendix A | December 19, 2001 | 757-200, -200CB, and -200PF series airplanes | Emergency Lights/Passenger Oxygen Panel.
233N3223-31-03, Revision 1 | September 25, 2003 | 757 airplanes | Engine Start/Ram Air Turbine Panel Assembly.
233N3224-73-01, Revision 1 | September 25, 2003 | 757-200, -200CB, and -200PF series airplanes | Electronic Engine Control Power Panel Assembly.
233N6203-26-10, Revision 1 | September 25, 2003 | 757 airplanes and 767-200, -300, and -300F series airplanes | Auxiliary Power Unit/Cargo Fire Control Panel Assembly.
233T3210-33-01, Revision 1 | September 25, 2003 | 757 airplanes and 767 airplanes | Emergency Lights Panel.
233T3215-24-01, including Appendix A | December 19, 2001 | 767-400ER series airplanes | Electrical Control Module Assembly.
233T3235-28-05, Revision 1 | September 25, 2003 | 767-200, -300, and -300F series airplanes | Fuel Management Panel Assembly.
233T3236-21-05, Revision 1 | September 25, 2003 | 767 airplanes | Temperature Control Panel.
233T3237-36-04, Revision 1 | September 25, 2003 | 767 airplanes | Bleed Air Control Panel.
233T3241-30-03, Revision 1 | September 25, 2003 | 757-200, -200CB, and -200PF series airplanes, and 767-200, -300, and -300F series airplanes | Wing and Engine Anti-ice Control Panel.
233T3242-73-02, Revision 1 | September 25, 2003 | 757 airplanes and 767-200, -300, and -300F series airplanes | Electronic Engine Control Panel.
233T3244-74-03, Revision 1 | September 25, 2003 | 767 airplanes | Engine Ignition and Start Control Panel.
233T6211-26-01, including Appendix A | December 19, 2001 | 767-400ER series airplanes | Auxiliary Power Unit and Cargo Fire Control Module Assembly.
233U3201-30-04, Revision 1 | September 25, 2003 | 747-400, -400D, and -400F series airplanes | Rain Removal/Anti-ice Module.
233U3202-24-02, Revision 1 | September 25, 2003 | 747-400, -400D, and -400F series airplanes | Electrical and Standby Power/Auxiliary Power Unit Start Module.
233U3203-36-01, Revision 1 | September 25, 2003 | 747-400, -400D, and -400F series airplanes | Bleed Air Control Module.
233U3206-28-01, Revision 1 | September 25, 2003 | 747-400, -400D, and -400F series airplanes | Engine Ignition Control/Fuel Jettison Module.
233U3208-22-02, Revision 1 | September 25, 2003 | 747-400, -400D, and -400F series airplanes | Passenger Oxygen and Yaw Damper Module.
233U3214-26-06, Revision 1 | September 25, 2003 | 747-400, -400D, and -400F series airplanes | Fire Control Module.
257U0002-32-04, including Appendix A | December 19, 2001 | 747-400, -400D, and -400F series airplanes | Landing Gear Actuator Control Lever Module Assembly.

Inspection

(h) Within 60 months after the effective date of this AD: Do a general visual inspection of the switches specified in paragraphs (h)(1), (h)(2), (h)(3), (h)(4), and (h)(5) of this AD, as applicable, to identify configuration ‘D' master modules and the part number (P/N) of the switch, in accordance with the applicable service bulletin, except as provided by paragraph (i) of this AD.

Note 2: For the purposes of this AD, a general visual inspection is “A visual examination of a interior or exterior area, installation or assembly to detect obvious damage, failure or irregularity. This level of inspection is made from within touching distance unless otherwise specified. A mirror may be necessary to ensure visual access to all surfaces in the inspection area. This level of inspection is made under normal available lighting conditions such as daylight, hangar lighting, flashlight or drop-light and may require removal or opening of access panels or doors. Stands, ladders or platforms may be required to gain proximity to the area being checked.”

(1) For Model 757-200, -200CB, and -200PF series airplanes: Switches identified in step 1 and step 3 of Figure 1 of Boeing Alert Service Bulletin 757-33A0044, Revision 1, dated September 25, 2003.

(2) For Model 757-300 series airplanes: Switches identified in step 1 of Figure 1 of Boeing Alert Service Bulletin 757-33A0045, Revision 1, dated September 25, 2003.

(3) For Model 767-200, -300, and -300F series airplanes: Switches identified in step 1 of Figure 1 of Boeing Alert Service Bulletin 767-33A0087, Revision 1, dated September 25, 2003.

(4) For Model 767-400ER series airplanes: Switches identified in step 1 of Figure 1 of Boeing Alert Service Bulletin 767-33A0088, dated December 19, 2001.

(5) For all airplanes: Switches identified for the panel assemblies specified in the applicable service bulletin.

Optional Inspection

(i) Instead of doing the inspection required by paragraph (h) of this AD, operators may inspect the part number of the panel assemblies specified in paragraphs (i)(1) and (i)(2) of this AD, as applicable, at the time specified in paragraph (h) of this AD. If the part number is identified as a new part number in paragraph 2.E. “Existing Parts Accountability” or Appendix B of the applicable service bulletin, no further action is required. If the part number is not identified as a new part number, the inspection required by paragraph (h) of this AD must be done at the specified time.

(1) For switches identified in paragraphs (h)(1), (h)(2), (h)(3), and (h)(4) of this AD: P3-1 and P10 panel assemblies, as applicable.

(2) For switches identified in paragraph (h)(5) of this AD: The panel assemblies identified in the applicable service bulletin.

Corrective Action

(j) If during any inspection required by paragraph (h) of this AD, any switch is found that does not have a configuration ‘D' switch master module and no switch part number specified in paragraph (j)(1)(i) or (j)(1)(ii) of this AD is found: Before further flight, do the actions specified in either paragraph (j)(1) or (j)(2) of this AD and do the part number revision, as applicable, specified in paragraph (j)(3) of this AD.

(1) Replace the switch with a switch specified in paragraph (j)(1)(i), (j)(1)(ii), or (j)(1)(iii) of this AD, in accordance with the applicable service bulletin, except as provided by paragraph (k) of this AD.

(i) Switches having Boeing P/N S231T290-4201 through -4325 inclusive.

(ii) Switches having Korry P/N 4336731004-4201 through -4325 inclusive.

Note 3: One-to-one switch correlation between the existing switches and the new part number switches can be found in Korry Service Bulletin 433-33-06, dated November 7, 2001.

(iii) Switches that have a configuration ‘D' master module.

(2) Replace the switch master module with a new configuration ‘D' master module in accordance with the applicable service bulletin.

(3) If all switches on a panel assembly have a configuration ‘D' master module or have a switch part number specified in paragraph (j)(1)(i) or (j)(1)(ii) of this AD: Revise the part number of the panel assembly in accordance with the applicable service bulletin.

(k) If during any inspection required by paragraph (h) of this AD, a configuration ‘D' switch master module is found or the switch part number is specified in paragraph (j)(1)(i) or (j)(1)(ii) of this AD on all switches for a panel assembly: Before further flight, revise the part number of the panel assembly, in accordance with the applicable service bulletin.

Contact the FAA/Removal and Installation Procedures

(l) If the applicable service bulletin specifies removal or installation of certain parts and does not specify removal or installation instructions: Before further flight, remove or install those parts according to a method approved by the Manager, Seattle Aircraft Certification Office (ACO), FAA, or by doing the actions specified in paragraph (l)(1) of this AD for removal or paragraph (l)(2) of this AD for installation, as applicable.

(1) Remove the module/panel assembly by doing the actions specified in paragraphs (l)(1)(i), (l)(1)(ii), and (l)(1)(iii) of this AD.

(i) Hold the module/panel assembly in position and loosen the quick-release screws.

(ii) Carefully lower the module/panel assembly from the overhead panel.

(iii) Remove the electrical connectors attached to the rear of the module/panel assembly.

(2) Install the module/panel assembly by doing the actions specified in paragraphs (l)(2)(i) and (l)(2)(ii) of this AD.

(i) Make sure that the module/panel assembly is correctly aligned, and connect the electrical connectors to the rear of the unit.

(ii) Carefully lift the module/panel assembly into position and install it with the quick-release screws.

Operational Tests

(m) If any panel assemblies, switches, or master modules are replaced during any action required by this AD: Before further flight, do all applicable operational tests in accordance with the applicable service bulletin, except as provided by paragraph (n) of this AD.

(n) Where paragraph 3.B.14.b.(3) of the Accomplishment Instructions of Boeing Alert Service Bulletin 747-33A2280, Revision 1, dated September 25, 2003, specifies procedures to do a test of the engine ignition control/fuel jettison module assembly, this AD requires that operators dry-motor the engine to remove the fuel from the tailpipe before doing the procedures in paragraph 3.B.14.b.(3). All fuel must be removed from the engine tailpipe before performing the test, because during the test the engine igniter will be energized.

Actions Accomplished According to Previous Issue of Service Bulletins

(o) Actions accomplished before the effective date of this AD in accordance with Boeing Alert Service Bulletin 747-33A2280, 757-33A0044, 757-33A0045, or 767-33A0087, all dated December 19, 2001, are considered acceptable for compliance with the corresponding action specified in this AD, provided that the actions specified in this AD are done on the switches for the additional panel assemblies specified in Revision 1 of the service bulletin.

Alternative Methods of Compliance (AMOCs)

(p)(1) The Manager, Seattle ACO, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(q) You must use the service bulletins listed in Table 3 of this AD to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the FAA, Transport Airplane Directorate, 1601 Lind Avenue SW., Renton, Washington; or at the National Archives and Records Administration (NARA). For information on the availability of this material at NARA, call 202-741-6030, or go to: http://www.archives.gov/federal-register/cfr/ibr-locations.html.

Table 3.—Material Incorporated by Reference
Boeing Alert Service Bulletin— | Revision— | Dated—
747-33A2280 | 1 | September 25, 2003.
757-33A0044 | 1 | September 25, 2003.
757-33A0045 | 1 | September 25, 2003.
767-33A0087 | 1 | September 25, 2003.
767-33A0088, including Appendix A | Original | December 19, 2001.

Issued in Renton, Washington, on January 14, 2008.
Stephen P. Boyd,
Assistant Manager, Transport Airplane Directorate, Aircraft Certification Service.

[FR Doc. E8-969 Filed 1-23-08; 8:45 am]

BILLING CODE 4910-13-P